DEPARTMENT OF HOMELAND SECURITY

Bureau of Customs and Border Protection

Automated Commercial Environment (ACE): Open Application Period for Participation in a National Customs Automation Program Test for Importers and Brokers

AGENCY: Customs and Border Protection; Department of Homeland Security.

ACTION: General notice.

SUMMARY: This notice clarifies that importers and their designated brokers may still apply to establish accounts so as to participate in a National Customs Automation Program Test for the ACE Secure Data Portal (“ACE Portal”). This notice also invites customs brokers to participate in the ACE Portal test generally. Prior to this notice, brokers could only participate in the ACE Portal test if they were designated by participating importers to make Periodic Monthly Statement payments on their behalf.

DATES: The test application period remains open until further notice. Comments concerning this notice and all aspects of the announced test may be submitted at any time.

ADDRESSES: Comments concerning this notice and applications to establish ACE Importer and Broker Accounts should be submitted to Ms. Sherri Braxton via e-mail at acenow@dhs.gov.

FOR FURTHER INFORMATION CONTACT: For questions regarding ACE Importer or Broker Accounts: Ms. Sherri Braxton via e-mail at acenow@dhs.gov or by telephone at (703) 440-3000. For questions concerning general CBP Account Management issues contact Mr. Lamar Witmer by telephone at (202) 344-1320.

SUPPLEMENTARY INFORMATION:

Background

On May 1, 2002, CBP published a general notice in the Federal Register (67 FR 21800) announcing a plan to conduct a National Customs Automation Program test of the first phase of the Automated Commercial Environment. In this notice, CBP stated that it planned to select approximately 40 importer accounts from the list of qualified applicants for the initial deployment of this test. The notice also stated that additional participants may be selected throughout the duration of this test. In order to be considered as to be one of the initial participants, importers' applications had to be received by CBP by June 1, 2002.

On June 18, 2002, CBP extended the application period for those desiring to be one of the initial importer participants by publishing a second general notice in the Federal Register (67 FR 41572). That notice emphasized that applications to be an initial participant had to be submitted to CBP prior to August 1, 2002. Applications would be accepted after that date, but parties who so applied would be placed on a waiting list and considered for participation pending expansion of the technology.

On February 4, 2004, CBP published a third General Notice in the Federal Register (69 FR 5362) announcing the next step toward the full electronic processing of commercial importations in ACE, with a focus on identifying authorized importers and brokers to participate in the test to implement the Periodic Monthly Statement Process. The notice stated that participants in this test would benefit by having access to operational data through the ACE Portal, enjoying the capability of being able to interact electronically with CBP, and making payments of duties and fees on a periodic monthly basis. In order for customs brokers to apply, they had to provide names of the initial 41 importers participating in the test by whom they had been or will have been designated as the authorized broker.

Importer Accounts

Through this notice, CBP seeks to expand the number of ACE importer accounts.

Broker Accounts

Through this notice, CBP also seeks to expand the number of ACE broker accounts. In order to become an ACE broker account, a customs broker will no longer need to be designated specifically as the broker by an ACE importer account participating in the Periodic Monthly Statement Test.

Receipt of Applications

CBP will give priority to the first 1100 applications it receives. Additionally, once interested parties have been notified that their request to participate in the ACE Portal test has been accepted, they will be asked to sign and submit a Terms and Conditions document. The application requirements are set forth below.

ACE Importer Account Application

Each importer application for participation in this test must include the following information:

1. Importer name;

2. Unique importer number (e.g., SSN, EIN, Customs Assigned Importer #, DUNS #);

3. Statement certifying participation in Customs Trade Partnership Against Terrorism (C-TPAT), and

4. Statement certifying the capability to connect to the Internet.

ACE Broker Account Application

Brokers wishing to participate in this test must first establish an individual ACE Broker Account. Brokers must submit an application to establish an ACE Broker Account via e-mail to the e-mail address set forth in the ADDRESSES portion of the document. Each broker application for participation in this test must include the following information:

1. Broker name;

2. Unique identification number (EIN, SSN);

3. Filer code;

4. Statement certifying participation in C-TPAT;

5. Statement certifying capability of connecting to the Internet;

6. Statement certifying capability of making periodic payment via the Automated Clearing House (ACH) Credit or ACH Debit, if applicable; and

7. Statement certifying capability of filing entry/entry summary via Automated Broker Interface (ABI).

Additionally, all participants requesting to participate in Periodic Monthly Statement are required to provide a bond rider covering the periodic payment of estimated duties.

Notification from CBP

Applicants will be notified by CBP of the acceptance of their applications. Any applicant who does not meet the eligibility criteria or who provides an incomplete application will be notified and given the opportunity to resubmit his or her application.

Authorization for the Test

Pursuant to Customs Modernization provisions in the North American Free Trade Agreement Implementation Act, Pub. L. 103-182, 107 Stat. 2057, 2170 (December 8, 1993), CBP amended its regulations (19 CFR chapter I), in part, to enable the Commissioner of Customs and Border Protection to conduct limited test programs or procedures designed to evaluate planned components of the National Customs Automation Program (NCAP). Section 101.9(b) of the CBP Regulations (19 CFR 101.9(b)) provides for the testing of NCAP programs or procedures. See T.D. 95-21. The ACE Portal test for which participation is being sought in this notice is established pursuant to that regulatory provision.

Previous Notices

All requirements and aspects of the test discussed in previous notices are hereby incorporated by reference into this notice and continue to be applicable. Examples of such requirements and aspects are the rules regarding misconduct under the test and the required evaluation of the test (both of which are detailed in the notices published at 67 FR 21800 and 69 FR 5362).

Dated: September 2, 2004.
Jayson P. Ahern,
Assistant Commissioner, Office of Field Operations.

[FR Doc. 04-20319 Filed 9-7-04; 8:45 am]

BILLING CODE 4820-02-P